SMALL BUSINESS ADMINISTRATION

[Declaration of Disaster #3630]

Commonwealth of Pennsylvania (Amendment #1)

In accordance with a notice received from the Department of Homeland Security—Federal Emergency Management Agency—effective October 19, 2004, the above numbered declaration is hereby amended to include Bedford, Butler, Erie, Huntingdon, Lawrence, Warren and Washington Counties as disaster areas due to damages caused by severe storms and flooding associated with Tropical Depression Frances occurring on September 8 and 9, 2004.

In addition, applications for economic injury loans from small businesses located in the contiguous counties of Armstrong, Clarion, Elk, Fayette, Forest, Franklin, Fulton, Greene, Juniata, McKean, Mifflin, Somerset, and Westmoreland in the Commonwealth of Pennsylvania; Allegany County in the State of Maryland; Cattaraugus and Chautauqua Counties in the State of New York; and Brooke, Marshall, and Ohio Counties in the State of West Virginia may be filed until the specified date at the previously designated location. All other counties contiguous to the above named primary counties have previously been declared.

The economic injury number assigned to Maryland is 9AH100 and New York is 9AH200.

All other information remains the same, i.e., the deadline for filing applications for physical damage is November 18, 2004, and for economic injury the deadline is June 20, 2005.

(Catalog of Federal Domestic Assistance Program Nos. 59002 and 59008).

Dated: October 20, 2004.
Herbert L. Mitchell,
Associate Administrator for Disaster Assistance.

[FR Doc. 04-23961 Filed 10-25-04; 8:45 am]

BILLING CODE 8025-01-P